SECURITIES AND EXCHANGE COMMISSION

[Release No. 34-67574; File No. SR-CBOE-2012-069]

Self-Regulatory Organizations; Chicago Board Options Exchange, Incorporated; Notice of Filing and Immediate Effectiveness of Proposed Rule Change Related to the Extension of the CBSX Individual Stock Trading Pause Pilot Program

August 2, 2012.

Correction

In notice document 2012-19356 appearing on pages 47450-47452 in the issue of Wednesday, August 7, 2012, make the following correction:

On page 47450, in the second column, the File No. is corrected to read as set forth above.

[FR Doc. C1-2012-19356 Filed 8-16-12; 8:45 am]

BILLING CODE 1505-01-D